DEPARTMENT OF ENERGY

Federal Energy Regulatory Commission

[Docket No. AD16-25-000]

Utilization in the Organized Markets of Electric Storage Resources as Transmission Assets Compensated Through Transmission Rates, for Grid Support Services Compensated in Other Ways, and for Multiple Services; Supplemental Notice of Technical Conference

As announced in the Notice of Technical Conference issued on September 30, 2016 in the above-captioned proceeding,¹ Federal Energy Regulatory Commission (Commission) staff will convene a technical conference on November 9, 2016, at the Commission's offices at 888 First Street NE., Washington, DC 20426 beginning at approximately 10:00 a.m. and ending at approximately 3:00 p.m. (Eastern Time). Commission staff will lead the conference, and Commissioners may attend.

¹ Utilization In the Organized Markets of Electric Storage Resources as Transmission Assets Compensated Through Transmission Rates, for Grid Support Services Compensated in Other Ways, and for Multiple Services, Docket No. AD16-25-000 (Sept. 30, 2016).

The purpose of the technical conference is to discuss the utilization of electric storage resources as transmission assets compensated through transmission rates, for grid support services that are compensated in other ways, and for multiple services. Attached to this supplemental notice is an agenda for the technical conference, including a more detailed description of the topics to be considered for discussion at the conference. Questions that speakers should be prepared to discuss are grouped by topic. This notice includes the list of panelists for each of the three topic areas.

This technical conference will be transcribed and webcast. Transcripts of the technical conference will be available for a fee from Ace-Federal Reporters, Inc. at (202) 347-3700. A free webcast of this event will be available through www.ferc.gov. Anyone with internet access who wants to view this event can do so by navigating to the Calendar of Events at www.ferc.gov and locating this event in the Calendar. The event will contain a link to its webcast. The Capitol Connection provides technical support for webcasts and offers the option of listening to the workshop via phone-bridge for a fee. If you have any questions, visit www.CapitolConnection.org or call (703) 993-3100.

Those interested in attending the technical conference or viewing the webcast are encouraged to register at https://www.ferc.gov/whats-new/registration/11-09-16-form.asp.

Commission technical conferences are accessible under section 508 of the Rehabilitation Act of 1973. For accessibility accommodations, please send an email to accessibility@ferc.gov, call (866) 208-3372 (toll free) or (202) 208-8659 (TTY), or send a FAX to (202) 208-2106 with the required accommodations.

For more information about this technical conference, please contact:

Rahim Amerkhail (Technical Information), Office of Energy Policy and Innovation, Federal Energy Regulatory Commission, 888 First Street NE., Washington, DC 20426, (202) 502-8266, rahim.amerkhail@ferc.gov

Sarah McKinley (Logistical Information), Office of External Affairs, Federal Energy Regulatory Commission, 888 First Street NE., Washington, DC 20426, (202) 502-8004, sarah.mckinley@ferc.gov

Heidi Nielsen (Legal Information), Office of the General Counsel, Federal Energy Regulatory Commission, 888 First Street NE., Washington, DC 20426, (202) 502-8435, heidi.nielsen@ferc.gov

Dated: November 1, 2016.
Nathaniel J. Davis, Sr.,
Deputy Secretary.

[FR Doc. 2016-26835 Filed 11-4-16; 8:45 am]

BILLING CODE 6717-01-P